DEPARTMENT OF HEALTH AND HUMAN SERVICES

Centers for Disease Control and Prevention

National Center for HIV, STD, and TB Prevention Meeting

Name: HIV Prevention Strategic Plan Meetings.

Times and Dates:

Tuesday—September 19, 2000 (1:30 p.m.-4:30 p.m.)

Oakland/San Francisco, CA: Holiday Inn-Bay Bridge, 1800 Powell Street, Emeryville, CA 94608, Phone: 510-658-9300

Wednesday—September 20, 2000 (1:30 p.m.-4:30 p.m.)

Houston, TX: Red Lion 2525 West Loop South, Houston, TX 77027, Phone: 713-961-3000

Thursday—September 21, 2000 (1:30 p.m.-4:30 p.m.)

Chicago, IL: Congress Plaza Hotel, 520 South Michigan Avenue, Chicago, IL 60605, Phone: 312-427-3800

Thursday—September 28, 2000 (1:30 p.m.-4:30 p.m.)

New York, NY: Hotel Pennsylvania, 401 7th Avenue, New York, NY 10001, Phone: 212-736-5000

Place: See above.

Status: Open to the public, limited only by the space available. The meeting room accommodates approximately 100 people.

Purpose: To present the current draft of the Centers for Disease Control and Prevention's HIV Prevention Strategic Plan and to provide an opportunity for community comment.

Matters to be Discussed: Agenda items include background and development of the draft HIV Prevention Strategic Plan; the plan itself; next steps in plan development; and public comments.

Contact Person for More Information: Lydia Ogden, National Center for HIV, STD, and TB Prevention, Office of Planning and Policy Coordination, 1600 Clifton Road, NE, M/S E-07, Atlanta, Georgia 30333, telephone 404/639-8031.

The Director, Management Analysis and Services Office, has been delegated the authority to sign Federal Register Notices pertaining to announcements of meetings and other committee management activities, for both the Centers for Disease Control and Prevention and the Agency for Toxic Substances and Disease Registry.

Dated: August 14, 2000.
Carolyn J. Russell,
Director, Management Analysis and Services Office, Centers for Disease Control and Prevention (CDC).

[FR Doc. 00-21163 Filed 8-18-00; 8:45 am]

BILLING CODE 4163-18-P